FEDERAL RETIREMENT THRIFT INVESTMENT BOARD

Notice of Board Meeting

DATES: January 28, 2025 at 10 a.m. ET

ADDRESSES: Telephonic. Dial-in (listen only) information: Number: 1-202-599-1426, Code: 498 846 088 #; or via web: https://www.frtib.gov/

FOR FURTHER INFORMATION CONTACT: James Kaplan, Director, Office of External Affairs, (202) 864-7150.

SUPPLEMENTARY INFORMATION:

Board Meeting Agenda

Open Session

1. Approval of the December 19, 2024, Board Meeting Minutes

2. Monthly Reports

(a) Participant Report

(b) Investment Report

(c) Legislative Report

3. Quarterly Reports

(d) Investment Review

(e) Budget Review

(f) Audit Status

4. Recordkeeper Service Update

5. OTS Office Presentation

6. Annual Expense Ratio Review

7. Internal Audit Update

8. OPR Full Withdrawal Survey

Closed Session

9. Information covered under 5 U.S.C. 552b (c)(9)(B), and (c)(10).

Authority: 5 U.S.C. 552b (e)(1).

Dated: January 15, 2025.
Dharmesh Vashee,
General Counsel, Federal Retirement Thrift Investment Board.

[FR Doc. 2025-01329 Filed 1-17-25; 8:45 am]

BILLING CODE P